DEPARTMENT OF LABOR

Employment and Training Administration

Announcement of the Career Videos for America's Job Seekers Challenge

AGENCY: Employment and Training Administration.

ACTION: Notice.

SUMMARY: In today's tight employment market the publicly funded workforce investment system has a major responsibility to maximize unemployed workers' opportunities for rapid reemployment by quickly connecting them to the full scope of available jobs. The ability to make such connections can be improved by increasing the workers' knowledge of the jobs that are in demand. The Employment and Training Administration (ETA) has identified 15 high-wage and in-demand occupations about which the U.S. Department of Labor (DOL) would like to share information with the public. To this end, ETA invites members of the public to produce short (1-3 minute) videos focusing on one of 15 occupations' daily activities, necessary Knowledge, Skills, and Abilities (KSAs), and career pathways. Video makers are free to choose which occupation to film from the list of selected occupations. After DOL staff screen all video submissions, the public (including job seekers, One Stop Career Center staff, and our partners in the workforce development system) will vote for their favorite video in each occupation category. These top videos will then be made accessible to the workforce system and posted on DOL Web sites, and the creators of the top videos will receive a cash prize. Successful video challenges have been held at the Department of State, the Department of Education, the Environmental Protection Agency, and other Federal agencies.

SUPPLEMENTARY INFORMATION: Through an outreach campaign that includes a DOL Press Release, E-Blast to the Public Workforce System, e-mails to occupational associations, and blog posts, ETA will encourage the general public, employer associations, Registered Apprenticeship program sponsors, businesses, veterans, youth organizations, educational institutions, and labor organizations to participate in the Career Videos for America's Job Seekers Challenge (hereafter called the Challenge). The Challenge will consist of four phases. Phase 1 will run from May 10 to June 18, 2010. In this phase, the general public, associations, and/or employers can submit their occupational video for one of the 15 occupational categories to http://www.dolvideochallenge.ideascale.com. The submitted occupational videos should pertain to one of the following occupations:

1. Biofuels Processing Technicians;

2. Boilermakers;

3. Carpenters;

4. Computer Support Specialists;

5. Energy Auditors;

6. Heating, Air Conditioning, and Refrigeration Mechanics and Installers/Testing Adjusting and Balancing (TAB) Technicians;

7. Licensed Practical and Licensed Vocational Nurse;

8. Medical Assistants;

9. Medical and Clinical Lab Technicians including Cytotechnologists;

10. Medical Records and Health Information Technicians including Medical Billers and Coders;

11. Pipefitters and Steamfitters;

12. Radiological Technologists and Technicians;

13. Solar Thermal Installers and Technicians;

14. Weatherization Installers and Technicians; and

15. Wind Turbine Service Technicians.

Phase 2 will run from June 21 to July 9. During this phase, the DOL/ETA will screen, review, and identify the top three career videos in each occupational category and post these selected videos online at http://www.dolvideochallenge.ideascale.com for public review.

Phase 3 will run from July 12 to August 6. During this phase, the public will recommend the top career video in each occupational category. They will also have the opportunity to comment on videos.

Phase 4 will run from August 9 to August 19. In this final phase, DOL and ETA, will communicate the top career video in each occupational category to the workforce development community, educational community, and job seekers by:

1. Posting an announcement of the top ranking videos on key websites including:

• DOL.gov;

• DOLETA.gov;

• White House Office of Science and Technology Policy blog;

• Workforce3One.org; and Other sites;

2. Highlighting the videos and occupations on ETA's http://www.CareerOneStop.org portal, which already houses a variety of occupational videos for the workforce system;

3. Providing additional coverage of the videos on the ETA Communities of Practice, including: 21st Century Apprenticeship, Green Jobs, Reemployment Works, Regional Innovators, and Disability and Employment.

4. Utilizing other communication outlets such as national associations and intergovernmental organizations like the National Association of State Workforce Agencies, the National Association of Workforce Boards, the National Governor's Association, the National Association of Counties, and the Association of Community Colleges.

As a result of the Challenge, job seekers will have a greater awareness of in-demand career opportunities, and the workforce development system will quickly boost its understanding of these occupations, significantly increasing the number of customers requesting training in these areas.

FOR FURTHER INFORMATION CONTACT: Michael Harding, Room 4510-C Employment and Training Administration, 200 Constitution Avenue, NW., Washington, DC 20210. Telephone number: 202-693-2921 (this is not a toll-free number). Fax: 202-693-3015. E-mail: Harding.Michael@dol.gov

Signed at Washington, DC, this 6th day of May 2010.
Jane Oates,
Assistant Secretary, Employment and Training Administration.

[FR Doc. 2010-11802 Filed 5-17-10; 8:45 am]

BILLING CODE 4510-FN-P